NUCLEAR REGULATORY COMMISSION

[NRC-2010-0274]

Final Regulatory Guide: Issuance, Availability

AGENCY: Nuclear Regulatory Commission.

ACTION: Notice of issuance and availability of Regulatory Guide, RG 1.216, “Containment Structural Integrity Evaluation for Internal Pressure Loadings Above Design-Basis Pressure.”

FOR FURTHER INFORMATION CONTACT: Robert G. Roche, U.S. Nuclear Regulatory Commission, Washington, DC 20555-0001, telephone: (301) 251-7645 or e-mail Robert.Roche@nrc.gov.

SUPPLEMENTARY INFORMATION:

I. Introduction

The U.S. Nuclear Regulatory Commission (NRC or Commission) is issuing a new guide in the agency's “Regulatory Guide” series. This series was developed to describe and make available to the public information such as methods that are acceptable to the NRC staff for implementing specific parts of the agency's regulations, techniques that the staff uses in evaluating specific problems or postulated accidents, and data that the staff needs in its review of applications for permits and licenses.

Regulatory Guide 1.216, “Containment Structural Integrity Evaluation for Internal Pressure Loadings Above Design-Basis Pressure,” was issued with a temporary identification as Draft Regulatory Guide, DG-1203. This guide describes methods that the NRC staff considers acceptable for (1) predicting the internal pressure capacity for containment structures above the design-basis accident pressure, (2) demonstrating containment structural integrity related to combustible gas control, and (3) demonstrating containment structural integrity to meet the Commission's performance goals related to the prevention and mitigation of severe accidents. It provides guidance on methods for satisfying requirements in Title 10 of the Code of Federal Regulations (10 CFR) Part 52, “Licenses, Certifications, and Approvals for Nuclear Power Plants.” Requirements in 10 CFR 52.47, “Contents of Applications; Technical Information,” and in 10 CFR 52.79, “Contents of Applications; Technical Information in Final Safety Analysis Report [FSAR],” relate to the structural integrity of containments under internal pressurization that pertain to the containment structural capacity above design-basis pressures, to combustible gas control, and to the prevention and mitigation of severe accidents. This guidance is intended to be consistent with the Commission's goals and other related guidance, as discussed in the remainder of this section. This regulatory guide does not address requirements and guidance for the structural evaluation of containments for design-basis pressure.

II. Further Information

In December 2008, DG-1203 was published with a public comment period of 60 days from the issuance of the guide. The public comment period closed on February 9, 2009. The staff's responses to the public comments received are located in the NRC's Agencywide Documents Access and Management System under Accession Number ML092800554. The regulatory analysis may be found in ADAMS under Accession No. ML101890047. Electronic copies of RG 1.216 are available through the NRC's public Web site under “Regulatory Guides” at http://www.nrc.gov/reading-rm/doc-collections/.

In addition, regulatory guides are available for inspection at the NRC's Public Document Room (PDR) located at 11555 Rockville Pike, Rockville, Maryland. The PDR's mailing address is USNRC PDR, Washington, DC 20555-0001. The PDR can also be reached by telephone at (301) 415-4737 or (800) 397-4205, by fax at (301) 415-3548, and by e-mail to pdr.resource@nrc.gov.

Regulatory guides are not copyrighted, and Commission approval is not required to reproduce them.

Dated at Rockville, Maryland, this 3rd day of August, 2010.
For the Nuclear Regulatory Commission.
Harriet Karagiannis,
Acting Chief, Regulatory Guide Development Branch, Division of Engineering, Office of Nuclear Regulatory Research.

[FR Doc. 2010-19676 Filed 8-9-10; 8:45 am]

BILLING CODE 7590-01-P